DEPARTMENT OF THE TREASURY

Office of Foreign Assets Control

Unblocking of One (1) Individual Designated Pursuant to Executive Order 13573

AGENCY: Office of Foreign Assets Control, Treasury.

ACTION: Notice.

SUMMARY: The Treasury Department's Office of Foreign Assets Control (“OFAC”) is removing the name of one (1) individual whose property and interests in property are blocked pursuant to Executive Order 13573 of May 18, 2011, “Blocking Property of Senior Officials of the Government of Syria” from the list of Specially Designated Nationals and Blocked Persons (“SDN List”).

DATES: The removal of this individual from the SDN List is effective as of August 14, 2012.

FOR FURTHER INFORMATION CONTACT: Assistant Director, Compliance Outreach & Implementation, Office of Foreign Assets Control, Department of the Treasury, 1500 Pennsylvania Avenue NW (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On May 18, 2011, the President issued Executive Order 13573, “Blocking Property of Senior Officials of the Government of Syria,” (the “Order”) pursuant to, inter alia, the International Emergency Economic Powers Act (50 U.S.C. 1701-06). In the Order, the President took additional steps with respect to the national emergency declared in Executive Order 13338 of May 11, 2004, which was expanded in scope in Executive Order 13572 of April 29, 2011. The Order authorizes the Secretary of the Treasury, in consultation with the Secretary of State, to designate additional persons or entities determined to meet certain criteria set forth in Executive Order 13573.

The Department of the Treasury's Office of Foreign Assets Control has determined that this individual should be removed from the SDN List.

The following designation is removed from the SDN List:

Individual

1. HIJAB, Riyad (a.k.a. HIJAB, Riyad Farid), Syria; DOB 1966; POB Deir Ezzor, Syria; Prime Minister (individual) [SYRIA].

The removal of this individual from the SDN List is effective as of August 14, 2012. All property and interests in property of the individual that are in or hereafter come within the United States or the possession or control of United States persons are now unblocked.

Dated: August 14, 2012.
Barbara C. Hammerle,
Acting Director, Office of Foreign Assets Control.

[FR Doc. 2012-20386 Filed 8-17-12; 8:45 am]

BILLING CODE 4811-AL-P